DEPARTMENT OF THE INTERIOR

Minerals Management Service

Outer Continental Shelf (OCS) Mid-Atlantic Proposed Oil and Gas Lease Sale 220 and Geological and Geophysical Exploration (G&G) on the Mid- and South Atlantic OCS

AGENCY: Minerals Management Service (MMS), Interior.

ACTION: Notice of public scoping meetings and extension of scoping period to prepare an Environmental Impact Statement (EIS) for proposed Mid-Atlantic Oil and Gas Lease Sale 220 and notice of new combined scoping meeting for proposed Lease Sale 220 EIS and the Programmatic Environmental Impact Statement (PEIS) for Future Industry G&G Activity on the Mid- and South Atlantic OCS.

SUMMARY: This Notice serves to announce two actions, including: (1) The reopening of the public scoping period for proposed Lease Sale 220 in the Mid-Atlantic Planning Area for an additional 45 days and providing notice of the public scoping meeting dates and locations for this proposed sale; and (2) announcing an additional and separate scoping meeting on May 12, 2010, in Norfolk, Virginia which will solicit public input on both the proposed Lease Sale 220 and the G&G PEIS on the Mid- and South Atlantic OCS. This Notice does not extend the public scoping period for the G&G PEIS on the Mid- and South Atlantic OCS. The scoping period for that PEIS ends on May 17, 2010 (see 75 FR 16830).

Pursuant to the regulations implementing the procedural provisions of the National Environmental Policy Act of 1969, as amended (42 U.S.C. 4321 et seq. [1988]) (NEPA), MMS will reopen the comment period on the EIS for proposed Lease Sale 220 for a period of 45 days from the date of this Federal Register notice. Proposed Lease Sale 220 is in the Mid-Atlantic Planning Area and is included in the current 5-Year Program for 2007-2012. Public scoping meetings will be held during this 45-day period to solicit useful information that will assist us in preparing an EIS to evaluate potential environmental effects of proposed Lease Sale 220. The MMS has planned three scoping meetings in May 2010 to provide opportunity for public comment and participation as part of the public process for proposed Lease Sale 220.

The public scoping period for the G&G PEIS on the Mid- and South Atlantic OCS ends on May 17, 2010, and scoping meetings for that PEIS were announced in the Federal Register on April 2, 2010 (75 FR 16830). Pursuant to the regulations implementing the procedural provisions of NEPA, MMS will hold an additional and separate public scoping meeting on May 12, 2010, in Norfolk, Virginia, which will solicit public input on both the proposed Lease Sale 220 and the G&G PEIS on the Mid- and South Atlantic OCS. All other public meetings announced in the April 2, 2010 Federal Register notice for the G&G PEIS on the Mid- and South Atlantic OCS will proceed as planned. Further, the public should follow instructions in 75 FR 16830 for submitting written comments on the G&G PEIS on the Mid- and South Atlantic OCS in lieu of attending the May 12, 2010 public scoping meeting.

DATES: Comments on the proposed Lease Sale 220 should be submitted no later than 45 days from the publication of this notice to the addresses specified below. The MMS estimates completion of the proposed Lease Sale 220 EIS in late 2011. Comments on the G&G PEIS on the Mid- and South Atlantic OCS should be submitted no later than May 17, 2010, according to instructions provided in 75 FR 16830.

Comments: In lieu of participation in the scoping meetings listed below, all interested parties, including Federal, state, and local government agencies and the general public, may submit written comments on the scope of the proposed Lease Sale 220 EIS, significant issues that should be addressed, alternatives that should be considered, and the types of oil and gas activities of interest in the Lease Sale 220 area. These comments must be submitted no later than 45 days from the publication of this notice to the addresses specified below.

Scoping comments for the proposed Lease Sale 220 may be submitted in one of the following two ways:

1. In written form enclosed in an envelope labeled “Scoping for Proposed Lease Sale 220” and mailed (or hand delivered) to Gary D. Goeke, Chief, Environmental Assessment Section, Leasing and Environment (MS 5410), Minerals Management Service, Gulf of Mexico OCS Region, 1201 Elmwood Park Boulevard, New Orleans, Louisiana 70123-2394; or

2. Electronically to the MMS e-mail address: sale220@mms.gov.

If you submitted comments during the scoping period between November 13, 2008, and January 13, 2009, they will be combined with submittals received during the scoping period announced today. You need not comment again, unless you have additional information to provide. The submission of written comments on the G&G PEIS on the Mid- and South Atlantic OCS should follow the instructions provided in 75 FR 16830 and should be submitted no later than May 17, 2010.

The MMS does not consider anonymous comments; please include your name and address as part of your submittal. Our practice is to make comments, including names and addresses of respondents, available for public review during regular business hours. Individual respondents may request that we withhold their address from the public record, which we will honor to the extent allowable by law. There may also be circumstances in which we would withhold a respondent's identity, as allowable by law. If you wish us to withhold your name and/or address, you must state your preference prominently at the beginning of your comment. We will make all submissions from organizations or businesses and from individuals identifying themselves as representatives or officials of organizations or businesses available for public inspection in their entirety.

FOR FURTHER INFORMATION CONTACT: For information on the public scoping meetings, the submission of comments, or MMS's policies associated with this notice, please contact Mr. Gary D. Goeke, Chief, Environmental Assessment Section, Leasing and Environment (MS 5410), Minerals Management Service, Gulf of Mexico OCS Region, 1201 Elmwood Park Boulevard, New Orleans, LA 70123-2394, telephone (504) 736-3233.

SUPPLEMENTARY INFORMATION: With respect to proposed Lease Sale 220, MMS issued a Notice of Intent to prepare an EIS published in the Federal Register on November 13, 2008 (Vol. 73, No. 220, page 67201), and included a 45-day scoping period. No scoping meetings were announced at that time. The MMS decided to extend the comment period and made announcements in a press release and other media. On January 7, 2009, MMS published a notice in the Federal Register (Vol. 74, No. 4, page 727) extending the scoping comment period to 60 days. That comment period expired on January 13, 2009. Over 27,000 comments were received during this 60-day period. This Federal Register notice is not an announcement to hold the proposed lease sale, but it is a continuation of information gathering and the environmental review required by NEPA. The comments we receive during scoping help us form the content of the EIS and are summarized for Departmental decisionmakers prior to a decision on whether or not to hold a lease sale.

The purpose of the public scoping process is to determine relevant issues that should be considered in the environmental analysis of oil and gas exploration, development, and production activities in the vicinity of the proposed lease area including alternatives, and guide the process for developing the EIS. For the proposed Lease Sale 220 EIS, the MMS has currently identified the following preliminary issues: air quality, biological resources, recreation, cultural resources, special management areas, land use, socioeconomic, and visual resources. The MMS will use and coordinate the NEPA commenting process to satisfy the public involvement process for Section 106 of the National Historic Preservation Act (16 U.S.C. 470f) as provided for in 36 CFR 800.2(d)(3). Throughout the scoping process, Federal, state, tribal, and local governments and other interested parties have the opportunity to aid MMS in determining the significant issues, reasonable alternatives, and potential mitigating measures to be analyzed in the EIS, as well as the possible need for additional information. Possible alternatives for analysis within the proposed Lease Sale 220 EIS may represent a range of levels of activities, including: (1) Taking the proposed action (Sale 220); (2) taking no action (canceling the Sale); (3) implementing appropriate restrictions on oil and gas activities based on environmental resources that are present; or (4) defining temporal or spatial work windows to accommodate existing use of OCS space important to other critical national missions. Additional alternatives developed through scoping and NEPA evaluation will be considered.

Statements on the proposed Lease Sale 220 EIS, both oral and written, will be received at the venues listed below. All persons wishing to speak will have the opportunity to do so. Time limits may be set on speakers to allow time for all speakers to participate. The following public scoping meetings are planned for proposed Lease Sale 220:

• May 12, 2010—Hilton Norfolk Airport, 1500 N. Military Highway, Norfolk, Virginia 23502; one meeting, from 1 p.m. to 5 p.m. EST (This meeting will also accept comments on the G&G PEIS for the Mid- and South Atlantic OCS. This is the only one of these three meetings that will accept comments on both the proposed Lease Sale 220 EIS and the G&G PEIS for the Mid- and South Atlantic OCS.);

• May 25, 2010—Princess Royale Oceanfront Hotel & Conference Center, 9100 Coastal Highway, Ocean City, Maryland 21842-2745; two meetings, the first from 1 p.m. to 4 p.m. EST and the second from 7 p.m. to 10 p.m. EST;

• May 27, 2010—Elizabeth City State University Fine Arts Complex, 1704 Weeksville Road, Elizabeth City, North Carolina 27909; two meetings, the first from 1 p.m. to 4 p.m. EST and the second from 7 p.m. to 10 p.m. EST.

In regards to the G&G PEIS for the Mid- and South Atlantic OCS, MMS issued a Notice of Intent to prepare an EIS published in the Federal Register on January 21, 2009 (74 FR 3636) and included a 45-day scoping period. No scoping meetings were announced at that time. On April 2, 2010, the MMS reopened the scoping period for an additional 45 days (ending May 17, 2010) and announced a series of public scoping meetings for late April 2010 (75 FR 16830). The comments received during both scoping periods will help MMS to prepare a PEIS evaluating the potential environmental effects of multiple G&G activities on the Mid- and South Atlantic OCS associated with renewable energy projects, oil and gas exploration, and marine minerals extraction. The purpose of the scoping is to identify significant resources and issues to be analyzed in the PEIS, and possible alternatives to the proposed action. Possible alternatives for analysis may represent a range of levels of activities from unrestricted to no seismic, mitigation (e.g., exclusion zones based on received levels of sounds; and limitations on certain combinations of activities in specific temporal/spatial circumstances).

MMS is now announcing through this Notice an additional and separate scoping meeting on the PEIS on May 12, 2010, in Norfolk, Virginia, which will also solicit public input on both the PEIS and proposed Lease Sale 220. Details of this meeting include:

• May 12, 2010—Hilton Norfolk Airport, 1500 N. Military Highway, Norfolk, Virginia 23502; one meeting, from 1 p.m. to 5 p.m. EST.

More information on proposed Lease Sale 220 can be found at: http://www.mms.gov/offshore/220.htm. More information on the G&G PEIS on the Mid- and South Atlantic OCS can be found at: http://www.gomr.mms.gov/homepg/offshore/atlocs/gandg.html.

Dated: April 16, 2010.
S. Elizabeth Birnbaum,
Director, Minerals Management Service.

[FR Doc. 2010-10017 Filed 4-28-10; 8:45 am]

BILLING CODE 4310-MR-P